DEPARTMENT OF COMMERCE

National Institute of Standards and Technology

[Docket Number 0906181062-91065-01]

Amendments to Alternative Personnel Management System (APMS) at the National Institute of Standards and Technology

AGENCY: National Institute of Standards and Technology, Commerce.

ACTION: Notice of amendments.

SUMMARY: National Institute of Standards and Technology (NIST) announces amendments to NIST's Alternative Personnel Management System (APMS). The amendments change the performance management system of the Senior Professional (ST) employees at NIST.

DATES: This notice is effective on July 21, 2009.

FOR FURTHER INFORMATION CONTACT: For questions or comments, please contact Susanne Porch at the National Institute of Standards and Technology, (301) 975-2487.

SUPPLEMENTARY INFORMATION:

Background

In accordance with Public Law 99-574, the NIST Authorization Act for Fiscal Year 1987 (15 U.S.C. 275 note), the Office of Personnel Management (OPM) approved a demonstration project plan, “Alternative Personnel Management System (APMS) at the National Institute of Standards and Technology (NIST),” and published the plan in the Federal Register on October 2, 1987 (52 FR 37082). The project plan has been amended twice to clarify certain NIST authorities (54 FR 21331, May 17, 1989, and 55 FR 39220, September 25, 1990). The project plan and subsequent amendments were consolidated in the final APMS plan, which became permanent on October 21, 1997, (62 FR 54604). NIST published an amendment on May 6, 2005 (70 FR 23996), which became permanent on June 6, 2005. NIST published an amendment on July 15, 2008 (FR 73 40502), which became permanent on October 1, 2008.

The plan provides for modifications to be made as experience is gained, results are analyzed, and conclusions are reached with regard to the working efficacy of the system. This notice formally amends the APMS plan to exclude NIST ST employees from the APMS performance management system and to include these employees in the Department of Commerce's 5-level performance management system. NIST is making this modification because it has determined that ST employees should be evaluated in the same manner as all other Department of Commerce ST employees, which is under the 5-level performance management system.

Dated: July 16, 2009.
Patrick Gallagher,
Deputy Director.

Table of Contents

I. Executive Summary

II. Basis for APMS Plan Modification

III. Changes to the APMS Plan

I. Executive Summary

The National Institute of Standards and Technology (NIST) is removing its Senior Professional (ST) employees from the Alternative Personnel Management System (APMS) performance management system. Instead, ST employees will be covered under the Department of Commerce's 5-level performance management system.

This amendment modifies the July 15, 2008 (73 FR 40502) amendment. Specifically, NIST will exclude ST employees from the performance management piece of the APMS. NIST ST employees will be covered under the Department of Commerce's 5-level performance management system.

NIST will continually monitor the effectiveness of this amendment.

II. Basis for APMS Plan Modification

NIST determined that ST employees should be evaluated in the same manner as all other Department of Commerce ST employees, which is under the 5-level performance management system.

III. Changes in the APMS Plan

The APMS at the NIST, published in the Federal Register on October 21, 1997 (62 FR 54604), as amended May 6, 2005 (70 FR 23996), and July 15, 2008 (73 FR 40502) is amended as follows:

1. Senior Executive Service (SES) and ST-3104 Positions (62 FR 54607) is replaced with the following: The personnel systems for SES positions (see 5 U.S.C. 3131-3136 and 5 U.S.C. 5381-5385) did not change for the NIST APMS. SES classification, staffing, compensation, performance appraisal, awards and reduction in force are based on standard SES methods. ST-3104 positions (see 5 U.S.C. 3104 and 5376) are covered under the Department of Commerce's 5-level performance management system. Classification, staffing and compensation, however, did not change. Neither SES nor ST-3104 employees were subject to the pro rata share payouts upon conversion to the NIST APMS system. Pay adjustments for their positions under the NIST APMS are carried out in accordance with existing Federal rules pertaining to SES and ST-3104 pay adjustments.

2. Performance Evaluation and Rewards, Coverage (62 FR 54611) is amended as follows: All employees covered by the NIST APMS are covered by the APMS performance evaluation and rewards system, except that NIST may remove from the system any position not filled by career or career-conditional appointment. ST-3104 employees have their performance evaluated under the Department of Commerce's 5-level performance management system and may receive bonuses under that system. Members of the Senior Executive Service remain under the DOC-NIST SES performance appraisal, pay and bonus system.

[FR Doc. E9-17274 Filed 7-20-09; 8:45 am]

BILLING CODE 3510-13-P